DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on January 8, 2001 (66 FR 1369-1371).

DATES: Comments must be submitted on or before August 30, 2001.

FOR FURTHER INFORMATION CONTACT: Henrietta Spinner at the National Highway Traffic Safety Administration, Office of Safety Performance Standards (NPS-20), 202-366-4802. 400 Seventh Street, SW., Room 6240, Washington, DC 20590.

SUPPLEMENTARY INFORMATION:

National Highway Traffic Safety Administration

Title: 49 CFR part 537—Automotive Fuel Economy Reports.

OMB Number: 2127-0019.

Type of Request: Extension of a currently approved collection.

Abstract: NHTSA ensures that automobile manufacturers comply with 49 CFR part 537—Automotive Fuel Economy Reports. Part 537 requires that automobile manufacturers submit reports to NHTSA regarding their efforts to improve automotive fuel economy. This information assists NHTSA in evaluating automobile manufacturers' plans for complying with average fuel economy standards and in preparing an annual review of the average fuel economy standards.

Affected Public: Business or other for profit organizations.

Estimated Total Annual Burden: 3,474.

ADDRESSES: Send comments, within 30 days, to the Office of Information and Regulatory Affairs, Office of Management and Budget, 725—17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on July 25, 2001.
Herman L. Simms,
Associate Administrator for Administration.

[FR Doc. 01-18991 Filed 7-30-01; 8:45 am]

BILLING CODE 4910-59-P